NUCLEAR REGULATORY COMMISSION

Sunshine Federal Register Notice

DATES: Weeks of July 28, August 4, 11, 18, 25, September 1, 2008.

Place: Commissioners' Conference Room, 11555 Rockville Pike, Rockville, Maryland.

Status: Public and Closed.

Week of July 28, 2008

Wednesday, July 30, 2008.

1:30 p.m.

Discussion of Management Issues (Closed—Ex. 2).

Week of August 4, 2008—Tentative

There are no meetings scheduled for the week of August 4, 2008.

Week of August 11, 2008—Tentative

Tuesday, August 12, 2008.

1:30 p.m.

Meeting with FEMA and State and Local Representatives on Offsite Emergency Preparedness Issues (Public Meeting) (Contact: Lisa Gibney, 301-415-8376).

This meeting will be webcast live at the Web address— http://www.nrc.gov.

Thursday, August 14, 2008.

1:30 p.m.

Meeting with Organization of Agreement States (OAS) and Conference of Radiation Control Program Directors (CRCPD) (Public Meeting) (Contact: Andrea Jones, 301-415-2309).

This meeting will be webcast live at the Web address— http://www.nrc.gov.

Week of August 18, 2008—Tentative

There are no meetings scheduled for the week of August 18, 2008.

Week of August 25, 2008—Tentative

There are no meetings scheduled for the week of August 25, 2008.

Week of September 1, 2008—Tentative

There are no meetings scheduled for the week of September 1, 2008.

The schedule for Commission meetings is subject to change on short notice. To verify the status of meetings, call (recording)—(301) 415-1292. Contact person for more information: Michelle Schroll, (301) 415-1662.

The NRC Commission Meeting Schedule can be found on the Internet at: http://www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, Rohn Brown, at 301-492-2279, TDD: 301-415-2100, or by e-mail at REB3@nrc.gov. Determinations on requests for reasonable accommodation will be made on a case-by-case basis.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: July 24, 2008.
Rochelle C. Bavol,
Office of the Secretary.

[FR Doc. 08-1473 Filed 7-25-08; 11:12 am]

BILLING CODE 7590-01-P